DEPARTMENT OF HEALTH AND HUMAN SERVICES

National Institute for Occupational Safety and Health; Decision To Evaluate a Petition To Designate a Class of Employees at the Ames Laboratory in Ames, Iowa, To Be Included in the Special Exposure Cohort

AGENCY: National Institute for Occupational Safety and Health (NIOSH), Department of Health and Human Services (HHS).

ACTION: Notice.

SUMMARY: The Department of Health and Human Services (HHS) gives notice as required by 42 CFR 83.12(e) of a decision to evaluate a petition to designate a class of employees at the Ames Laboratory in Ames, Iowa, to be included in the Special Exposure Cohort under the Energy Employees Occupational Illness Compensation Program Act of 2000. The initial proposed definition for the class being evaluated, subject to revision as warranted by the evaluation, is as follows:

Facility: Ames Laboratory.

Location: Ames, Iowa.

Job Titles and/or Job Duties: All sheet metal workers, physical plant maintenance and associated support staff (includes all maintenance shop personnel) of Ames Laboratory and supervisory staff that may have been exposed to the maintenance and renovation activities of the thorium production areas in Wilhelm Hall (also known as the Metallurgy Building or “Old” Metallurgy Building).

Period of Employment: January 1, 1955 through December 31, 1970.

FOR FURTHER INFORMATION CONTACT: Larry Elliott, Director, Office of Compensation Analysis and Support, National Institute for Occupational Safety and Health (NIOSH), 4676 Columbia Parkway, MS C-46, Cincinnati, OH 45226, Telephone 513-533-6800 (this is not a toll-free number). Information requests can also be submitted by e-mail OCAS@CDC.GOV.

Dated: February 22, 2007.
John Howard,
Director, Institute for Occupational Safety and Health.

[FR Doc. 07-913 Filed 2-28-07; 8:45 am]

BILLING CODE 4163-19-M